NUCLEAR REGULATORY COMMISSION

10 CFR Part 72

RIN 3150-AH05

List of Approved Spent Fuel Storage Casks: VSC-24 Revision; Confirmation of Effective Date

AGENCY: Nuclear Regulatory Commission.

ACTION: Direct final rule; confirmation of effective date.

SUMMARY: The Nuclear Regulatory Commission (NRC) is confirming the effective date of February 3, 2003, for the direct final rule that appeared in the Federal Register of November 20, 2002 (67 FR 69987). This direct final rule amended the NRC's regulations by revising the Pacific Sierra Nuclear Associates VSC-24 system listing within the “List of approved spent fuel storage casks” to include Amendment No. 4 to Certificate of Compliance No. 1007. This document confirms the effective date.

DATES: The effective date of February 3, 2003, is confirmed for this direct final rule.

ADDRESSES: Documents related to this rulemaking, including comments received, may be examined at the NRC Public Document Room, 11555 Rockville Pike, Rockville, MD. These same documents may also be viewed and downloaded electronically via the rulemaking Web site (http://ruleforum.llnl.gov). For information about the interactive rulemaking Web site, contact Ms. Carol Gallagher (301) 415-5905; e-mail CAG@nrc.gov.

FOR FURTHER INFORMATION CONTACT: Jayne M. McCausland, Office of Nuclear Material Safety and Safeguards, U.S. Nuclear Regulatory Commission, Washington, DC 20555, telephone (301) 415-6219 (email: jmm2@nrc.gov).

SUPPLEMENTARY INFORMATION: On November 20, 2002 (67 FR 69987), the NRC published in the Federal Register a direct final rule amending its regulations in 10 CFR Part 72 to revise the Pacific Sierra Nuclear Associates VSC-24 system listing within the “List of approved spent fuel storage casks” to include Amendment No. 4 to Certificate of Compliance No. 1007. Amendment No. 4 modifies the present cask system design to permit the storage of different specific fuel control elements as integral components to fuel assemblies under a general license. In addition, Amendment No. 4 amends Technical Specification (TS) 1.1.1 to change the flood condition velocity from 7.62 meters per second (m/s) [25 feet per second (ft/s)] to 5.39 m/s (17.7 ft/s); TS 1.2.1, 1.2.4, and 1.2.6 to address the additional fuel control elements approved for storage, and deletes TS 1.2.10 to eliminate redundant requirements for controlling moderator density.

In the direct final rule, NRC stated that if no significant adverse comments were received, the direct final rule would become final on the date noted above. The NRC did not receive any comments that warranted withdrawal of the direct final rule. Therefore, this rule will become effective as scheduled.

Dated at Rockville, Maryland, this 15th day of January, 2003.
For the Nuclear Regulatory Commission.
Michael T. Lesar,
Chief, Rules and Directives Branch, Division of Administrative Services, Office of Administration.

[FR Doc. 03-1219 Filed 1-17-03; 8:45 am]

BILLING CODE 7590-01-P